DEPARTMENT OF COMMERCE

National Oceanic and Atmospheric Administration

[I.D. 081502E]

North Pacific Fishery Management Council; Public Meeting

AGENCY: National Marine Fisheries Service (NMFS), National Oceanic and Atmospheric Administration (NOAA), Commerce.

ACTION: Notice of Gulf of Alaska (GOA) and Bering Sea/Aleutian Islands (BS/AI) Groundfish Plan Team meetings.

SUMMARY: The North Pacific Fishery Management Council’s (Council) GOA and BS/AI Groundfish Plan Team will meet in Alaska.

DATES: The meeting will be held on September 9-10, 2002.

ADDRESSES: The Groundfish Plan Teams will meet at the Alaska Fishery Science Center, 7600 Sand Point Way NE, Bldg. 4, Seattle, WA 98115.

Council address: North Pacific Fishery Management Council, 605 W. 4th Ave., Suite 306, Anchorage, AK 99501-2252.

FOR FURTHER INFORMATION CONTACT: Council Staff: 907-271-2809.

SUPPLEMENTARY INFORMATION: On Monday, the 9th of September at 1 p.m., the Groundfish Plan Teams will meet at the Alaska Fishery Science Center. Items to be discussed include, Status of DPSEIS, SSL Protection Measures, Ecosystem Chapter, Other Species update, ESA listings. BS/AI will review preliminary drafts of Arrowtooth, Eastern Bering Sea Pollock and Atka mackerel. GOA will review a preliminary draft of pollock hydroacoustic survey results, assessment update.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

This meeting is physically accessible to people with disabilities. Requests for sign language interpretation or other auxiliary aids should be directed to Gail Bendixen, 907-271-2809, at least 5 working days prior to the meeting date.

Dated: August 15, 2002.
Richard W. Surdi,
Acting Director, Office of Sustainable Fisheries, National Marine Fisheries Service.

[FR Doc. 02-21312 Filed 8-20-02; 8:45 am]

BILLING CODE 3510-22-S